DEPARTMENT OF ENERGY

Federal Energy Regulatory Commission

[FFP Missouri 2, LLC; Project No. 13702-001—Mississippi]

Grenada Lake Hydroelectric Project; Notice Of Proposed Restricted Service List for a Programmatic Agreement

Rule 2010 of the Federal Energy Regulatory Commission's (Commission) Rules of Practice and Procedure ¹ provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

¹ 18 CFR 385.2010.

The Commission staff is consulting with the Mississippi Department of Archives and History (Mississippi SHPO) and the Advisory Council on Historic Preservation (Advisory Council) pursuant to the Advisory Council's regulations, 36 CFR Part 800, implementing section 106 of the National Historic Preservation Act, as amended, (16 U.S.C. 70f), to prepare a Programmatic Agreement for managing properties included in, or eligible for inclusion in, the National Register of Historic Places that could be affected by issuance of a license for the proposed Grenada Lake Hydroelectric Project No. 13702.

The Programmatic Agreement, when executed by the Commission and the Mississippi SHPO, would satisfy the Commission's section 106 responsibilities for all individual undertakings carried out in accordance with the license until the license expires or is terminated (36 CFR 800.13[e]). The Commission's responsibilities pursuant to section 106 for the project would be fulfilled through the Programmatic Agreement, which the Commission staff proposes to draft in consultation with certain parties listed below. The executed Programmatic Agreement would be incorporated into any Order issuing a license.

FFP Missouri 2, LLC, as applicant for the proposed Grenada Lake Hydroelectric Project, the U.S. Army Corps of Engineers, the Choctaw Nation of Oklahoma, the Jena Band of Choctaw Indians, the Chickasaw Nation, the Mississippi Band of Choctaw Indians, the Quapaw Tribe of Oklahoma, the Tunica-Biloxi Tribe of Louisiana, and the Muscogee (Creek) Nation have expressed an interest in this proceeding and are invited to participate in consultations to develop the Programmatic Agreement. For purposes of commenting on the Programmatic Agreement, we propose to restrict the service list for Project No. 13702 as follows:

John Eddins, Advisory Council on Historic Preservation, The Old Post Office Building, Suite 803, 1100 Pennsylvania Avenue, NW., Washington, DC 20004 | LaDonna Brown, Chickasaw Nation, P.O. Box 1548, Ada, OK 74821.
Greg Williamson, Mississippi Department of Archives and History, 100 South State Street, Jackson, MS 39201 | Kenneth H. Carlton, THPO, Mississippi Band of Choctaw Indians, P.O. Box 6257, Choctaw, MS 39350.
Andrew Tomlinson, U.S. Army Corps of Engineers, Vicksburg District, 4155 Clay Street, Vicksburg, MS 39183 | Jean Ann Lambert, THPOM, Quapaw Tribe of Oklahoma, 5681 South 630 Road, Quapaw, OK 74363.
Thomas M. Feldman or Representative, Free Flow Power Corporation, 239 Causeway Street, Suite 300, Boston, MA 02114 | Earl Barbry, Jr., Tunica-Biloxi Tribe of Louisiana, 151 Melacon Drive, Marksville, LA 71351.
Dr. Ian Thompson, THPO, Choctaw Nation of Oklahoma, P.O. Box 1210, Durant, OK 74702 | Emman Spain, Muscogee (Creek) Nation, P.O. Box 580, Okmulgee, OK 74447.
Johnnie Jacobs, Choctaw Nation of Oklahoma, P.O. Box 1210, Durant, OK 74702 | Sarah Koeppel, U.S. Army Corps of Engineers, Vicksburg District, 4155 Clay Street, Vicksburg, MS 39183.
Dana Masters, THPO, Jena Band of Choctaw Indians, P.O. Box 14, Jena, LA 71342

Any person on the official service list for the above-captioned proceeding may request inclusion on the restricted service list, or may request that a restricted service list not be established, by filing a motion to that effect within 15 days of this notice date. In a request for inclusion, please identify the reason(s) why there is an interest to be included. Also, please identify any concerns about historic properties, including traditional cultural properties. If historic properties might be identified within the motion, please use a separate page and label it Non-Public information.

Any such motion may be filed electronically via the Internet in lieu of paper. See 18 CFR 385.2001(a)(1)(iii) and the instructions on the Commission's Web site (http://www.ferc.gov/docs-filing/ferconline.asp). For assistance, please contact FERC Online Support at FERCOnlineSupport@ferc.gov, or toll-free at (866) 208-3676, or for TTY, (202) 502-8659. Although the Commission strongly encourages electronic filing, documents may also be paper-filed. To paper-file, mail an original and five copies to: Kimberly D. Bose, Secretary, Federal Energy Regulatory Commission, 888 First Street NE., Washington, DC 20426. Please put the project number (P-13702-001) on the first page of the filing.

If no such motions are filed, the restricted service list will be effective at the end of the 15 day period. Otherwise, a further notice will be issued ruling on any motion or motions within the 15-day period.

Dated: June 26, 2013.
Kimberly D. Bose,
Secretary.

[FR Doc. 2013-15856 Filed 7-1-13; 8:45 am]

BILLING CODE 6717-01-P